SMALL BUSINESS ADMINISTRATION

[Disaster Declaration #11776 and #11777]

Alaska Disaster Number AK-00015

AGENCY: U.S. Small Business Administration.

ACTION: Amendment 1.

SUMMARY: This is an amendment of the Presidential declaration of a major disaster for the State of Alaska (FEMA-1843-DR), dated 06/11/2009.

Incident: Flooding and Ice Jams.

Incident Period: 04/28/2009 and continuing through 05/31/2009.

Effective Date: 05/31/2009.

Physical Loan Application Deadline Date: 08/10/2009.

EIDL Loan Application Deadline Date: 03/11/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Alaska, dated 06/11/2009 is hereby amended to establish the incident period for this disaster as beginning 04/28/2009 and continuing through 05/31/2009.

All other information in the original declaration remains unchanged.

(Catalog of Federal Domestic Assistance Numbers 59002 and 59008)

James E. Rivera,
Acting Associate Administrator for Disaster Assistance.

[FR Doc. E9-16393 Filed 7-10-09; 8:45 am]

BILLING CODE 8025-01-P